FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201353.

Agreement Name: THE Alliance/Evergreen Vessel Sharing Agreement.

Parties: Hapag Lloyd AG; HMM Company Limited; Ocean Network Express Pte. Ltd.; Yang Ming Marine Transport Corp., Yang Ming (UK) Ltd., and Yang Ming (Singapore) Pte. Ltd. (acting as a single party); and Evergreen Marine Corporation (Taiwan) Ltd.

Filing Party: Joshua Stein; Cozen O'Connor.

Synopsis: The Agreement authorizes the Parties to jointly operate a service in the trade between Asia, Panama, and the U.S. Gulf Coast.

Proposed Effective Date: 3/15/2021.

Location: https://www2.fmc.gov/FMC.Agreements.Web/Public/AgreementHistory/39502.

Agreement No.: 201251-003.

Agreement Name: Hapag-Lloyd/Maersk Slot Exchange Agreement.

Parties: Hapag-Lloyd AG and Maersk A/S.

Filing Party: Wayne Rohde; Cozen O'Connor.

Synopsis: The amendment updates the name of Maersk and revises Article 5.1 to reflect changes in the amount of space to be exchanged/chartered under the Agreement.

Proposed Effective Date: 3/21/2021.

Location: https://www2.fmc.gov/FMC.Agreements.Web/Public/AgreementHistory/10190.

Agreement No.: 201258-001.

Agreement Name: Maersk/Zim Gulf-ECSA Space Charter Agreement.

Parties: Maersk A/S and Zim Integrated Shipping Services Ltd.

Filing Party: Wayne Rohde; Cozen O'Connor.

Synopsis: The amendment updates the name of Maersk and revises Article 5.1(a) to reflect changes in the amount of space to be exchanged/chartered under the Agreement.

Proposed Effective Date: 3/21/2021.

Location: https://www2.fmc.gov/FMC.Agreements.Web/Public/AgreementHistory/13183.

Dated: February 5, 2021.
Rachel E. Dickon,
Secretary.

[FR Doc. 2021-02756 Filed 2-9-21; 8:45 am]

BILLING CODE 6730-02-P